OFFICE OF PERSONNEL MANAGEMENT

SES Performance Review Board

AGENCY: Office of Personnel Management.

ACTION: Notice.

SUMMARY: Notice is hereby given of the appointment of members of the OPM Performance Review Board.

FOR FURTHER INFORMATION CONTACT: Teresa Floyd, Human Capital Management Services Group, Office of Personnel Management, 1900 E Street NW., Washington, DC 20415, (202) 606-2309.

SUPPLEMENTARY INFORMATION: Section 4314(c) (1) through (5) of Title 5, U.S.C., requires each agency to establish, in accordance with regulations prescribed by the Office of Personnel Management, one or more SES performance review boards. The board reviews and evaluates the initial appraisal of a senior executive's performance by the supervisor, and considers recommendations to the appointing authority regarding the performance of the senior executive.

Office of Personnel Management.
Kay Coles James,
Director.

The following have been designated as regular members of the Performance Review Board of the Office of Personnel Management:

Paul T. Conway, Chief of Staff—Chair

Stephen C. Benowitz, Associate Director for Human Resources Products and Services

Steven R. Cohen, Homeland Security Liaison Officer

John C. Gartland, Director, Office of Congressional Relations

Doris L. Hausser, Senior Policy Advisor to the Director and Chief Human Capital Officer

Vicki A. Novak, Assistant Administrator for Human Resources and Education, National Aeronautics Space Administration

Marta B. Perez, Associate Director for Human Capital Leadership and Merit System Accountability

Eric M. Thorson, Senior Advisor for Investigative Operations and Agency Planning

Mark A. Robbins, General Counsel

[FR Doc. 03-28395 Filed 11-7-03; 8:45 am]

BILLING CODE 6325-45-P